DEPARTMENT OF TRANSPORTATION

Federal Aviation Administration

14 CFR Part 71

[Docket No. FAA-2025-1183; Airspace Docket No. 25-ASO-12]

RIN 2120-AA66

Amendment of Class D and E Airspace; Miami, FL

AGENCY: Federal Aviation Administration (FAA), DOT.

ACTION: Final rule.

SUMMARY: This action amends Class D airspace and Class E2 airspace extending upward from the surface to 2,500 feet MSL, within a 4.3-mile radius of Miami Executive Airport, Miami, FL. It also amends Class E5 airspace from 700 feet above the surface and 7 miles around Miami Executive Airport, Miami, FL, and within 2.4 miles each side of the 267° bearing from the LAYDN IAF extending from the 7-mile radius to 7 miles west of the IAF. This action also makes administrative updates to the coordinates for LAYDN IAF, Pompano Beach Airpark, and North Perry Airport. Controlled airspace is necessary for the safety and management of instrument flight rules (IFR) operations at this airport.

DATES: Effective 0901 UTC, July 9, 2026. The Director of the Federal Register approves this incorporation by reference action under 1 CFR part 51, subject to the annual revision of FAA Order JO 7400.11 and publication of conforming amendments.

ADDRESSES: A copy of the notice of proposed rulemaking (NPRM), all comments received, this final rule, and all background material may be viewed online at www.regulations.gov using the FAA Docket number. Electronic retrieval help and guidelines are available on the website. It is available 24 hours a day, 365 days a year. An electronic copy of this document may also be downloaded from www.federalregister.gov.

FAA Order JO 7400.11K, Airspace Designations, and Reporting Points, as well as subsequent amendments, can be viewed online at www.faa.gov/air_traffic/publications/. For further information, you can contact the Rules and Regulations Group, Policy Directorate, Federal Aviation Administration, 600 Independence Avenue SW, Washington, DC 20597; Telephone: (202) 267-8783.

FOR FURTHER INFORMATION CONTACT: Rachel Cruz, Operations Support Group, Eastern Service Center, Federal Aviation Administration, 1701 Columbia Avenue, College Park, GA 30337; Telephone: (404) 305-5571.

SUPPLEMENTARY INFORMATION:

Authority for This Rulemaking

The FAA's authority to issue rules regarding aviation safety is found in Title 49 of the United States Code. Subtitle I, Section 106, describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends Class D and Class E airspace for Miami Executive Airport, Miami, FL.

History

The FAA published a notice of proposed rulemaking for Docket No. FAA 2025-1183 in the Federal Register (90 FR 57015; December 9, 2025), proposing to amend Class D and Class E airspace for Miami Executive Airport, Miami, FL. Interested parties were invited to participate in this rulemaking effort by submitting written comments on the proposal to the FAA. No comments were received.

Incorporation by Reference

Class D and Class E airspace designations are published in paragraphs 5000, 6002, and 6005 of FAA Order JO 7400.11, Airspace Designations and Reporting Points, which is incorporated by reference in 14 CFR 71.1 on an annual basis. This document amends the current version of that order, FAA Order JO 7400.11K, dated August 4, 2025, and effective September 15, 2025. These amendments will be published in the next update to FAA Order JO 7400.11.FAA Order JO 7400.11K, which lists Class A, B, C, D, and E airspace areas, air traffic service routes, and reporting points, is publicly available as listed in the ADDRESSES section of this document.

The Rule

This amendment to 14 CFR part 71 modifies Class D and Class E2 airspace from the surface of the Earth up to and including 2,500 feet MSL within a 4.3-mile radius of the Miami Executive Airport, Miami, FL, and within 1.2 miles each side of the 267° bearing from the airport reference point extending from the 4.3-mile radius to 5.9 miles west of the airport reference point, excluding that airspace within the Miami, FL, Class B airspace area. Also, this action amends the Miami Class E5 airspace, by updating QEZZY Initial Approach Fix (IAF) to LAYDN IAF, extending from the 7-mile radius to 7 miles west of the IAF, and within a 6.5-mile radius of Fort Lauderdale Executive Airport, Pompano Beach Airpark, and North Perry Airport. Controlled airspace is necessary for the safety and management of instrument flight rules (IFR) operations in the area.

Differences From the NPRM

The FAA published a notice of proposed rulemaking for Docket No. 2025-1183 in the Federal Register (90 FR 57015; December 9, 2025), proposing to amend Class D, E2, and E5 airspace for Miami Executive Airport, in Miami, FL. Subsequent to publication of the NPRM, FAA determined that it needed to include an administrative update to the legal description of the Miami E5 Airspace to incorporate routine coordinate adjustments. This amendment updates the coordinates of LAYDN IAF, Miami, FL, to lat. 25°38′22″ N, long. 80°31′28″ W; the coordinates of Pompano Beach Airpark, Pompano Beach, FL, to lat. 26°14′50″ N, long. 80°06′40″ W; and the coordinates of North Perry Airport, Hollywood, FL, to lat. 26°00′05″ N, long. 80°14′26″ W. The adjustments to the coordinates are nominal and do not result in regulatorily significant changes to airspace boundaries. These changes also impose no additional requirements on users of the airspace. Accordingly, as these are administrative changes only, the FAA finds good cause that recirculating the NPRM for public notice and comment is unnecessary.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this proposed rule, when promulgated, will not have a significant economic impact on a substantial number of small entities under the criteria of the Regulatory Flexibility Act.

Environmental Review

The FAA has determined that this action qualifies for categorical exclusion under the National Environmental Policy Act in accordance with FAA Order 1050.1G, FAA National Environmental Policy Act Implementing Procedures, paragraph B-2.5a. This airspace action is not expected to cause any potentially significant environmental impacts, and no extraordinary circumstances exist that warrant the preparation of an environmental assessment.

Lists of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of Federal Aviation Administration Order JO 7400.11K, Airspace Designations and Reporting Points, dated August 4, 2025, and effective September 15, 2025, is amended as follows:

* * * * *

Paragraph 5000 Class D Airspace.

* * * * *

ASO FL D Miami, FL [Amended]

Miami Executive Airport, FL

(Lat. 25°38′51″ N, long. 80°26′00″ W)

That airspace extending upward from the surface to and including 2,500 feet MSL within a 4.3-mile radius of the Miami Executive Airport, and within 1.2 miles each side of the 267° bearing from the airport reference point extending from the 4.3-mile radius to 5.9 miles west of the airport reference point, excluding that airspace within the Miami, FL, Class B airspace area. This Class D airspace area is effective during the specific dates and times established in advance by a Notice to Airmen. The effective date and time will thereafter be continuously published in the Chart Supplement.

* * * * *

Paragraph 6002 Class E Airspace Areas Designated as Surface Areas.

* * * * *

ASO FL E2 Miami, FL [Amended]

Miami Executive Airport, FL

(Lat. 25°38′51″ N, long. 80°26′00″ W)

Within a 5-mile radius of Miami Executive Airport. This Class E airspace is effective during the specific dates and times established in advance by a Notice to Airmen. The effective date and time will thereafter be continuously published in the Chart Supplement.

* * * * *

Paragraph 6005 Class E Airspace Areas Extending Upward From 700 Feet or More Above the Surface of the Earth.

* * * * *

ASO FL E5 Miami, FL [Amended]

Miami International Airport, FL

(Lat. 25°47′43″ N, long. 80°17′24″ W)

Homestead ARB

(Lat. 25°29′19″ N, long. 80°23′01″ W)

Miami Opa-Locka Executive Airport

(Lat. 25°54′27″ N, long. 80°16′42″ W)

Fort Lauderdale-Hollywood International Airport

(Lat. 26°04′18″ N, long. 80°08′59″ W)

Miami Executive Airport

(Lat. 25°38′51″ N, long. 80°26′00″ W)

LAYDN IAF

(Lat. 25°38′22″ N, long. 80°31′28″ W)

Fort Lauderdale Executive Airport

(Lat. 26°11′50″ N, long. 80°10′15″ W)

Pompano Pompano Beach Airpark

(Lat. 26°14′50″ N, long. 80°06′40″ W)

North North Perry Airport

(Lat. 26°00′05″ N, long. 80°14′26″ W)

That airspace extending upward from 700 feet above the surface within a 7-mile radius of Miami International Airport, Homestead ARB, Miami Opa-Locka Executive Airport, Fort Lauderdale-Hollywood International Airport, and Miami Executive Airport, and within 2.4 miles each side of the 267° bearing from the LAYDN IAF extending from the 7-mile radius to 7 miles west of the IAF, and within a 6.5-mile radius of Fort Lauderdale Executive Airport, Pompano Beach Airpark and North Perry Airport.

* * * * *

Issued in College Park, Georgia, on February 10, 2026
Patrick Young,
Manager, Airspace & Procedures Team North, Eastern Service Center, Air Traffic Organization.

[FR Doc. 2026-02919 Filed 2-12-26; 8:45 am]

BILLING CODE 4910-13-P